NUCLEAR REGULATORY COMMISSION

10 CFR Part 61

[NRC-2011-0043]

Public Workshop to Discuss Low-Level Radioactive Waste Management

AGENCY: Nuclear Regulatory Commission.

ACTION: Public Workshop and Request for Comment.

SUMMARY: The U.S. Nuclear Regulatory Commission (NRC), in coordination with the U.S. Department of Energy (DOE), plans to conduct a workshop to discuss possible approaches to revising the regulatory framework for the management of commercial low-level radioactive waste (LLW). The purpose of this workshop is to gather information from a broad spectrum of stakeholders concerning the NRC's proposed options for a comprehensive revision to NRC's and DOE's waste regulations and to discuss possible options.

DATES: The workshop will be on March 4, 2011, in Phoenix, Arizona. To participate online, see Section II of the SUPPLEMENTARY INFORMATION section of this notice. Comments on the issues and questions presented in Section III of the SUPPLEMENTARY INFORMATION section of this notice are due March 30, 2011.

ADDRESSES: The public workshop will be held on March 4, 2011, from 8:30 a.m. to 5:30 p.m. at the Hyatt Regency Phoenix Hotel, 122 North Second Street, Phoenix, AZ 85004. The NRC will accept public comments at the public workshop. You may also submit comments by any one of the following methods. Please include Docket ID NRC-2011-0043 in the subject line of your comments. Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal rulemaking Web site: Go to http://www.regulations.gov and search for documents filed under Docket ID NRC-2011-0043. Address questions about NRC dockets to Ms. Carol Gallagher, telephone: 301-492-3668, e-mail: Carol.Gallagher@nrc.gov.

Mail comments to: Ms. Cindy Bladey, Chief, Rules, Announcements and Directives Branch (RADB), Division of Administrative Services, Office of Administration, Mail Stop: TWB-05-B01M, U.S. Nuclear Regulatory Commission, Washington, DC. 20555-0001, or by fax to RADB at 301-492-3446.

You can access publicly available documents related to this notice using the following methods:

NRC's Public Document Room (PDR): The public may examine and have copied for a fee, publicly available documents at the NRC's PDR, Room O1-F21, One White Flint North, 11555 Rockville Pike, Rockville, Maryland 20852-2738.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

Federal rulemaking Web site: Public comments and supporting materials related to this notice can be found at http://www.regulations.gov by searching on Docket ID: NRC-2011-0043.

FOR FURTHER INFORMATION CONTACT: Michael P. Lee, Ph.D., Office of Federal and State Materials and Environmental Management Programs, U.S. Nuclear Regulatory Commission, Washington, DC 20555-0001; telephone: 301-415-6887; e-mail: Mike.Lee@nrc.gov; Donald B. Lowman, Office of Federal and State Materials and Environmental Management Programs, U.S. Nuclear Regulatory Commission, Washington, DC 20555-0001; telephone: 301-415-5452; e-mail: Donald.Lowman@nrc.gov; or Antoinette Walker-Smith, Office of Federal and State Materials and Environmental Management Programs, U.S. Nuclear Regulatory Commission, Washington, DC 20555-0001; telephone: 301-415-6390; e-mail: Antoinette.Walker-Smith@nrc.gov.

SUPPLEMENTARY INFORMATION:

I. Background

The Commission's licensing requirements for the disposal of LLW in near-surface [approximately the uppermost 30 meters (100 feet)] facilities reside in part 61. These regulations were published in the Federal Register on December 27, 1982 (47 FR 57446). The rule applies to any near-surface LLW disposal technology, including shallow-land burial, engineered land disposal methods such as below-ground vaults, earth-mounded concrete bunkers, and augered holes. The regulations emphasize an integrated systems approach to the disposal of commercial LLW, including site selection, disposal facility design and operation, minimum waste form requirements, and disposal facility closure. To lessen the burden on society over the long periods of time contemplated for the control of the radioactive material, and thus lessen reliance on institutional controls, part 61 emphasizes passive rather than active systems to limit and retard releases to the environment.

Development of the part 61 regulation in the early 1980s was based on several assumptions as to the types of wastes likely to go into a commercial LLW disposal facility. To better understand what the likely inventory of wastes available for disposal might be, the NRC conducted a survey of existing LLW generators. The survey, documented in Chapter 3 of NUREG-0782—the Draft part 61 Environmental Impact Statement (DEIS)—revealed that there were about 36 distinct commercial waste streams consisting of about 24 radionuclides of potential regulatory interest. The specific waste streams in question were representative of the types of commercial LLW being generated at the time. Waste streams associated with DOE's nuclear defense complex were not considered as part of the survey, since disposal of those wastes, at that time, was to be conducted at the DOE-operated sites. Over the last several years there have been a number of developments that have called into question some of the key assumptions made in connection with the earlier part 61 DEIS, including:

• The emergence of potential LLW streams that were not considered in the original part 61 rulemaking, including large quantities of depleted uranium, and possibly incidental wastes associated with the commercial reprocessing of spent nuclear fuel; and

• DOE's increasing use of commercial facilities for the disposal of defense-related LLW streams; and

• Extensive international operational experience in the management of LLW and intermediate-level radioactive wastes that did not exist at the time part 61 was promulgated.

The developments described above will need to be considered if the staff undertakes a revision of part 61. Waste from the Nation's defense programs has been managed by DOE and is not subject to part 61. Instead, DOE has used DOE Order 435.1 to specify the disposal requirements for this waste. The current version of this Order has been in place for about 11 years and applies to management of radioactive waste within the DOE complex. Like part 61, Order 435.1 places a heavy emphasis on performance assessment as part of its radioactive waste management decision-making. DOE recently started a comprehensive revision of Order 435.1, which it plans to complete sometime in 2011. The staff plans to consider any modifications to Order 435.1 as part of a comprehensive revision to part 61.

In SRM-M100617B (ADAMS ML1018203015), the Commission directed the staff to outline its approach to initiate activities in connection with a possible revision to part 61 that is risk-informed, performance-based. However, before the start of any rulemaking process, the staff recommended that it engage stakeholders and solicit their views on whether there should be amendments to the current part 61 and if so, what the nature of those amendments should be. This approach is consistent with NRC's openness policy and with the type of public outreach used by the staff to develop part 61.

II. NRC/DOE Joint Public Workshop

The purpose of this workshop is to gather information from a broad spectrum of stakeholders concerning the NRC's proposed options for a comprehensive revision to NRC's and DOE's waste regulations. They include: (1) Risk-inform the current part 61 waste classification framework, (2) comprehensive revision to part 61, (3) site-specific waste acceptance criteria, (4) international alignment, and (5) supersede direction given in Staff Requirements Memorandum (SRM)-08-0147. This workshop will be conducted jointly with DOE who is also considering revisions to its Management Directive DOE Order 435.1 (Radioactive Waste Management).

The joint public workshop will be organized in two sessions (one for each agency), followed by a joint “Panel Discussion” Session. Session I will address DOE Order 435.1. Session I will also include an opportunity for stakeholder feedback and comments. Session II will address the NRC staff's proposed options for any potential rulemaking actions with respect to revision of 10 CFR part 61 (Licensing Requirements for Land Disposal of Radioactive Waste) as discussed in the NRC Commission Paper SECY-10-0165. This SECY paper is available on the NRC Web site at http://www.nrc.gov/reading-rm/doc-collections/commission/secys/2010/. Session II will also include background presentations on SECY-10-0165 by NRC staff. Following Session II, there will be a joint DOE/NRC Panel Discussion to explain the agencies' respective positions, future plans, and specific views regarding the LLW management framework. The panel will also address public and stakeholder suggestions and comments.

The public workshop will be held on March 4, 2011, from 8:30 a.m. to 5:30 p.m. at the Hyatt Regency Phoenix Hotel, 122 North Second Street, Phoenix, Arizona 85004. Pre-registration for this meeting is not necessary. Members of the public choosing to participate in this meeting remotely can do so in one of two ways—online, via Webex, or via a telephone (audio) connection. Instructions for remote participation in this meeting are described below.

To join the online meeting (including mobile devices)

1. Go to https://pec.webex.com/pec/j.php?ED=7975058&UID=32785548&PW=NNzA2ZGNlOGYx&RT=MiM1.

2. If requested, enter your name and e-mail address.

3. If a password is required, enter the meeting password: Energy

4. Click “Join”.

To view in other time zones or languages, please click the link: https://pec.webex.com/pec/j.php?ED=7975058&UID=32785548&PW=NNzA2ZGNlOGYx&ORT=MiM1.

To join the audio conference only

To receive a call back, provide your phone number when you join the meeting, or call the number below and enter the access code.

Call-in toll-free number (U.S./Canada): 1-877-669-3239 .

Call-in toll number (U.S./Canada): +1-408-600-3600 Toll-free dialing restrictions: http://www.webex.com/pdf/tollfree_restrictions.pdf; Access code: 858 991 753

The agenda for the public meeting will be noticed no fewer than ten (10) days prior to the meeting on the NRC's electronic public workshop schedule at http://www.nrc.gov/public-involve/public-meetings/index.cfm.

III. Questions Related to 10 CFR Part 61, “Low-Level Radioactive Waste Management”

NRC staff is seeking stakeholder input to the following three questions that will be discussed at the public workshop:

(1) Should the staff revise the existing 10 CFR part 61?

(2) What recommendations do you have for specific changes to the current rule?

(3) What are your suggestions for possible new approaches to commercial LLW management?

NRC plans to consider stakeholder views in the development of a revised draft of part 61. The staff expects to issue a Commission Paper summarizing stakeholder views along with a recommendation for any future part 61 rulemaking in calendar year 2012. Written comments may be sent to the address listed in the ADDRESSES section. Questions about participation in the public workshops should be directed to the points of contact listed in the FOR FURTHER INFORMATION CONTACT section.

Dated at Rockville, Maryland, this 22nd day of February 2011.
For the Nuclear Regulatory Commission.
Andrew Persinko,
Deputy Director, Environmental Protection and Performance Assessment Directorate, Division of Waste Management and Environmental Protection, Office of Federal and State Materials and Environmental Management Programs.

[FR Doc. 2011-4404 Filed 2-25-11; 8:45 am]

BILLING CODE 7590-01-P